DEPARTMENT OF LABOR

Employment and Training Administration

Agency Information Collection Activities; Comment Request; Unemployment Insurance Benefits Operations State Self-Assessment Report of Responses

ACTION: Notice.

SUMMARY: The Department of Labor (DOL), Employment and Training Administration (ETA) is soliciting comments concerning a proposed extension for the authority to conduct the information collection request (ICR) titled, “Unemployment Insurance Benefits Operations State Self-Assessment Report of Responses.” In 2014, ETA embarked on a major multi-year initiative to reengineer its program accountability processes for state unemployment insurance (UI) benefits operations by integrating peer reviews with new operational review processes that recognizes both Federal and state capacity and ensures that the UI program is administered with a focus on accountability and integrity. Recognizing the need to assess and adequately monitor state UI benefit program operations in the 53 jurisdictions with state UI programs, the ETA has developed a new comprehensive state self-assessment tool, which is a set of questionnaires related to state UI benefits operations. The new collection has two distinct and complimentary purposes: (1) Assisting state UI agencies in making improvements to their UI benefits operations; and (2) assisting ETA in oversight and monitoring of state UI benefit program operations.

This comment request is part of continuing Departmental efforts to reduce paperwork and respondent burden in accordance with the Paperwork Reduction Act of 1995 (PRA), 44 U.S.C. 3501 et seq.

DATES: Consideration will be given to all written comments received by August 29, 2016.

ADDRESSES: A copy of this ICR with applicable supporting documentation; including a description of the likely respondents, proposed frequency of response, and estimated total burden may be obtained free by contacting Betty Castillo, Chief of the Division of Unemployment Insurance Operations, by telephone at (202) 693-3029, (this is not a toll-free number), TTY 1-877-889-5627, or by email at Castillo.Betty@dol.gov.

Submit written comments about, or requests for a copy of, this ICR by mail or courier to the U.S. Department of Labor, ETA Office of Unemployment Insurance, FPB Room S-4524, 200 Constitution Ave. NW., Washington, DC 20210; by email: Castillo.Betty@dol.gov; or by Fax (202) 693-3229.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The self-assessment report contains responses to a series of in-depth questions on functional and program areas within state UI benefits operations. ETA has developed questionnaires for the following fifteen functional and program areas within UI benefit operations: (1) Adjudications/Benefits Timeliness and Quality Reviews; (2) Benefit Payment Control; (3) Continued Claims and Eligibility Reviews; (4) Data Validation; (5) Disaster Unemployment Assistance; (6) Intake Claims—Unemployment Compensation for Ex-Servicemembers; (7) Intake Claims—Unemployment Compensation for Federal Employees; (8) Intake Initial Claims—Combined Wage Claims; (9) Intake—Initial Claims; (10) Internal Security; (11) Lower Authority Appeals and Higher Authority Appeals; (12) Overarching Operational Matters; (13) Short-Time Compensation; (14) Trade Readjustment Allowances; and (15) Worker Profiling and Reemployment Services and Reemployment Services and Eligibility Assessments. Each functional or program area questionnaire of the self-assessment tool covers nine operational elements (where applicable for the specific functional or program area). The operational elements are: (1) Procedures, Policies and Confidentiality; (2) Training; (3) Workload Analysis and Management Controls; (4) Performance Management; (5) Information Technology; (6) Claimant and Employer Access and Communication; (7) Operational Efficiency and Resource Allocation; (8) Staffing and Merit Staffing; and (9) Fiscal Management. Instructions have also been developed describing the overall use of the tool as well as separate sets of instructions for each functional or program area questionnaire.

As previously noted, the new Unemployment Insurance Benefits Operations State Self-Assessment Report of Responses has two distinct and complimentary purposes: (1) Assisting state UI agencies in making improvements to their UI benefits operations; and (2) assisting ETA in oversight and monitoring state UI benefit program operations.

State Use: At the conclusion of the self-assessment review, the results should be shared with state UI Administrators and appropriate program managers. The state's practices in all functional or program areas should be reviewed thoroughly to identify issues which may be the cause of poor operational performance as well as areas where the state is performing well. If training needs are identified, appropriate training curriculum should be developed and delivered to staff. The functional and program area questions may also be used to identify policies and procedures that are outdated and which should be brought up-to-date and published for appropriate staff to use. Use of self-assessment data can help to create a culture that supports both positive and negative feedback in planning and managing change. Administrators should also use the review results as a means to confirm the state's proper use of merit staff, its management of administrative grant funds, its continuity of operations plans, and other related business practices that are essential to the state's benefits operations. The state agency leadership should also use the self-assessment review results to identify any successful or promising practices occurring in the state UI operations that can be shared with other states. Such identified practices can be shared on the UI Community of Practice operated by ETA.

ETA Use: The state self-assessment responses will support periodic reviews conducted by ETA staff, by which they assess the state's activities in relation to State and Federal laws and regulations, including the state's compliance with Federal requirements. The information gathered from the self-assessments will enable ETA Regional Office staff to work with the state to identify areas where performance improvements are needed. The results will be used to inform ETA's technical assistance efforts nationally and with individual states, and will enable a more robust and effective collection and dissemination of state best practices. Information on states' operational issues that will be gathered from the report of responses of the states' self-assessments, as well as information on the states' timeliness and quality performance measures, improper payment rates, and information from ETA Regional Office monitoring and/or technical assistance efforts, will be used by ETA in identifying “high priority” states. States that are deemed to be “high priority” will be subject to more intensive monitoring and technical assistance from ETA related to its benefits operations and the state will be required to address identified issues in a corrective action plan submitted as part of the State's Quality Service Plan.

Section 303(a)(6) of the Social Security Act, 42 U.S.C. 503(a)(6) authorizes this information collection.

This information collection is subject to the Paperwork Reduction Act (PRA). A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention the “Unemployment Insurance Benefits Operations State Self-Assessment Report of Responses.”

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: “NEW”.

Title of Collection: Unemployment Insurance Benefits Operations State Self-Assessment Report of Responses.

Form: Not Applicable.

OMB Control Number: XXXX-0NEW.

Affected Public: State Government.

Estimated Number of Respondents: 53.

Frequency: Annually.

Total Estimated Annual Responses: 53.

Estimated Average Time per Response: 2,080 hours.

Estimated Total Annual Burden Hours: 110,240 hours.

Total Estimated Annual Other Cost Burden: $8,902,982.20.

Portia Wu,
Assistant Secretary for Employment and Training, U.S. Department of Labor.

[FR Doc. 2016-15467 Filed 6-29-16; 8:45 am]

BILLING CODE 4510-FW-P